DEPARTMENT OF THE INTERIOR

Fish and Wildlife Service

[FWS-R4-ES-2011-N129; 40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by December 5, 2011.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-47898A

Applicant: National Park Service, Appalachian Highlands Inventory and Monitoring Network, Asheville, North Carolina.

Applicant requests authorization to take by capture for identification purposes, the tuxedo (duskytail) darter (Etheostoma lemniscatum) and the spotfin chub (Erimonax monachus). This activity will provide data on populations of these species in Tennessee and Kentucky.

Permit Application Number: TE-89074

Applicant: Wetland and Ecological Consultants, LLC., Atlanta, Georgia.

Applicant requests renewal of authorization to take during presence/absence surveys the following endangered species; Etowah darter (Etheostoma etowahae), amber darter (Percina antesella), conasauga logperch (Percina jenkinsi), coosa moccasinshell (Medionidus parvulus), southern pigtoe (Pleurobema georgianum), fat threeridge (Amblema neisleri), shiny-rayed pocketbock (Hamiota subangulata), gulf moccasinshell (Medionidus penicillatus), oval pigtoe (Pleurobema pyriforme) and cylindrical lioplax (Lioplax cyclostomaformis). This survey work will be conducted in Georgia.

Permit Application Number: TE-111326

Applicant: Chris Fleming, Nashville, Tennessee.

Applicant is requesting renewal of authorization to conduct presence/absence surveys, sweeps and relocation of Nashville crayfish in Davidson and Williamson Counties, Tennessee.

Permit Application Number: TE-54848A

Applicant: Advanced Ecological Management, LLC, Reed City, Michigan.

Applicant requests authorization to take (collect, identify and release) the following mussel species; Ovate clubshell (Pleurobema perovatum), Inflated heelsplitter (Potamilus inflatus), stirrup shell mussel (Quadrula stapes) and heavy pigtoe (Pleurobema taitianum) for the purpose of conducting a presence/absence survey on the Tombigbee River in Alabama.

Dated: October 6, 2011.
Jacquelyn B. Parrish,
Acting Regional Director.

[FR Doc. 2011-28577 Filed 11-3-11; 8:45 am]

BILLING CODE 4310-55-P